POSTAL RATE COMMISSION

[Docket No. N2006-1; Order No. 1453]

Postal Service Network Realignment

AGENCY: Postal Rate Commission.

ACTION: Order.

SUMMARY: This order informs the public that the Postal Service has filed a case with the Commission on the proposed realignment of the Nation's mail processing and transportation network. The realignment is expected to have an impact on delivery service standards. The order, among other things, addresses initial steps in the case, identifies key dates, and directs interested parties to the Commission's Web site for pertinent documents.

DATES: 1. March 17, 2006: Deadline for filing notices of intervention, answers to a combined motion on scheduling and special rules of practice, and requests for a hearing.

2. March 24, 2006: Prehearing conference (9:30 a.m.)

ADDRESSES: Submit documents electronically via the Commission's Filing Online system at http://www.prc.gov.

FOR FURTHER INFORMATION CONTACT: Stephen L. Sharfman, general counsel, at 202-789-6818.

SUPPLEMENTARY INFORMATION: Notice is hereby given that on February 14, 2006, the United States Postal Service filed a request with the Postal Rate Commission pursuant to section 3661 of the Postal Reorganization Act, 39 U.S.C. 101 et seq., for an advisory opinion on anticipated changes in the application of current service standards to numerous 3-digit ZIP Code service area origin-destination pairs for different classes of mail.¹ The Postal Service states that these changes “are expected to result from a system-wide review and realignment of the Postal Service's mail processing and transportation networks.” ²

¹ Request of the United States Postal Service for an Advisory Opinion on Changes in Postal Services, February 14, 2006.

² Id. at 1. (Footnote omitted.)

The Postal Service's request states that it has determined to adopt a process for conducting an in-depth examination and reconfiguration of its mail processing and transportation networks during the next several years. As part of a centrally directed program, the Service anticipates that numerous mail processing and transportation changes will be proposed at the local level and submitted to Postal Service headquarters for approval. Because current service standards for mail delivery are based on logistical considerations, the Service expects that its planned network and transportation changes will result in determinations to adjust some of the service standards that now apply to numerous 3-digit ZIP Code area origin-destination pairs for various classes of mail. However, the Postal Service does not propose to change the ranges of days to delivery incorporated in current service standards for any class or subclass of mail.

The Postal Service's request is accompanied and supported by two pieces of testimony and eight library references. The request and all supporting materials are on file in the Commission's docket room for inspection during regular business hours, and are available on the Commission's Web site at http://www.prc.gov.

Proposed procedural schedule and special rules of practice. Also accompanying the Postal Service request is a motion for adoption of an expedited procedural schedule and of special rules of practice that would shorten procedural deadlines for interrogatory response, objections to interrogatories, and replies to motions.³ The Service proposes a sequence of expedited deadlines for discovery, hearings, responsive testimony, and briefs in order to enable the Commission to issue an advisory opinion on its request no later than May 5, 2006. The earliest deadline in the proposed schedule would require a much shorter deadline for interventions that the norm in Commission proceedings. The Postal Service states that it proposes this procedural timetable because it “presently intends to implement the service changes resulting from the initial wave of operational changes produced by its network realignment review program” on or about May 15, 2006.⁴

³ Motion of the United States Postal Service for the Adoption of Proposed Procedural Schedule and Special Rules of Practice, February 14, 2006.

⁴ Id. at 2.

Further procedures. Section 3661(c) of title 39 requires that the Commission afford an opportunity for a formal, on-the-record hearing on the Postal Service's request under the terms specified in sections 556 and 557 of title 5 of the United States Code before issuing its advisory opinion. All interested parties are hereby notified that notices of intervention in this proceedings shall be due on March 17, 2006. Any participant requesting a hearing in this matter shall so state in conformance with 39 CFR 3001.20(b).

At this time, the Commission cannot anticipate the duration, or even the exact form, appropriate for proceedings on this matter. Participants who wish to offer their views on these issues may do so in their interventions. Additionally, responses to the Postal Service's motion for adoption of its proposed procedural schedule and special rules of practice shall be due on March 17, 2006. The Commission will hold a prehearing conference in this docket on March 24, 2006.

Public participation. Section 3661(c) of title 39 requires the participation of an “officer of the Commission who shall be required to represent the interest of the general public” in these proceedings. The Commission will designate an individual to perform this function in a separate order to be issued in the near future.

Ordering Paragraphs

It is ordered:

1. The Commission establishes Docket No. N2006-1 to consider the Postal Service request referred to in the body of this order.

2. The Commission will act en banc in this proceeding.

3. Notices of interventions shall be filed no later than March 17, 2006.

4. Answers to the Postal Service's Motion for the Adoption of Proposed Procedural Schedule and Special Rules of Practice are due on March 17, 2006.

5. A prehearing conference is scheduled for March 24, 2006, at 9:30 a.m., in the Commission's hearing room.

6. Participants who wish to request a hearing on the Postal Service's request in this docket shall submit such a request, together with statements in conformance with 39 CFR 3001.20(b), on or before March 17, 2006.

7. The Secretary shall cause this notice and order to be published in the Federal Register.

By the Commission.
Issued: February 17, 2006.
Steven W. Williams,
Secretary.

[FR Doc. 06-1706 Filed 2-23-06; 8:45 am]

BILLING CODE 7710-FW-M